DEPARTMENT OF COMMERCE

National Oceanic and Atmospheric Administration

[I.D. 061501B]

Gulf of Mexico Fishery Management Council; Public Meetings

AGENCY: National Marine Fisheries Service (NMFS), National Oceanic and Atmospheric Administration (NOAA), Commerce.

ACTION: Notice of public meeting.

SUMMARY: The Gulf of Mexico Fishery Management Council (Council) will convene public meetings.

DATES: The meetings will be held on July 9-13, 2001.

ADDRESSES: These meetings will be held at the Hawk’s Cay Resort, 61 Hawk’s Cay Boulevard, Duck Key, FL 33050; telephone: 305-743-7000.

Council address: Gulf of Mexico Fishery Management Council, 3018 U.S. Highway 301 North, Suite 1000, Tampa, FL 33619.

FOR FURTHER INFORMATION CONTACT: Wayne E. Swingle, Executive Director, Gulf of Mexico Fishery Management Council; telephone: (813) 228-2815.

SUPPLEMENTARY INFORMATION:

Council

July 11

8:30 a.m.—Convene.

8:45 a.m.-12 noon—Receive public testimony on Draft Reef Fish Amendment 18/Draft Supplemental Environmental Impact Statement (DSEIS).

1:30 p.m.-5 p.m.—Continue public testimony on Draft Reef Fish Amendment 18/DSEIS, if necessary.

5 p.m.-6 p.m.—CLOSED SESSION—Receive a report of the Advisory Panel (AP) Selection Committee.

July 12

8:30 a.m.-12 noon—Receive a report of the Reef Fish Management Committee.

1:30 p.m.-4 p.m.—Continue report of the Reef Fish Management Committee, if necessary.

4 p.m.-5 p.m.—Receive a report of the Shrimp Management Committee.

July 13

8:30 a.m.-8:45 a.m.—Receive a report of the Habitat Protection Committee.

8:45 a.m.-9 a.m.—Receive a report of the Council Chairmen’s Meeting.

9 a.m.-9:15 a.m.—Receive a report of the NMFS Sustainable Fisheries Act Workshop.

9:15 a.m.-9:30 a.m.—Receive a report of the NMFS Observer Workshop.

9:30 a.m-9:45 a.m.—Receive a report of the South Atlantic Fishery Management Council meeting.

9:45 a.m.-10 a.m.—Receive a report of the Audit Exit meeting.

10 a.m.-10:15 a.m.—Receive the NMFS Regional Administrator’s Report.

10:15 a.m.-10:30 a.m.—Receive Enforcement Reports.

10:30 a.m.-11 a.m.—Receive Director’s Reports.

11 a.m.—Other Business

July 9

10 a.m.-12 noon—CLOSED SESSION—Convene the AP Selection Committee to develop recommendations for appointments to the Ad Hoc Red Snapper AP and the Deep-Water Crab AP.

1:30 p.m.-5:30 p.m.—Convene the Reef Fish Management Committee to review Draft Reef Fish Amendment 18 and DSEIS and to make their recommendations to the Council for final action. The full Council will consider those recommendations on Thursday morning.

July 10

8:30 a.m.-12 p.m.—Continue the meeting of the Reef Fish Management Committee, if necessary.

1 p.m.-4 p.m.—Convene the Shrimp Management Committee to approve Draft Amendment 10/Environmental Assessment for public hearings, receive a report on the status of shrimp stocks, and a report on compliance within the Tortugas Shrimp Sanctuary.

4:30 p.m.-5:30 p.m.—Convene the Habitat Protection Committee to hear a report on freshwater inflow to the Gulf of Mexico.

Although non-emergency issues not contained in the agenda may come before the Council for discussion, in accordance with the Magnuson-Stevens Fishery Conservation and Management Act (Magnuson Act), those issues may not be the subject of formal Council action during this meeting. Council action will be restricted to those issues specifically identified in this notice and any issues arising after publication of this notice that require emergency action under section 305 (c) of the Magnuson Act, provided the public has been notified of the Council’s intent to take final action to address the emergency. A copy of the Committee schedule and agenda can be obtained by calling (813) 228-2815.

Special Accommodations

These meetings are physically accessible to people with disabilities. Requests for sign language interpretation or other auxiliary aids should be directed to Anne Alford at the Council (see ADDRESSES) by July 2, 2001.

Dated: June 20, 2001.
Bruce C. Morehead,
Acting Director, Office of Sustainable Fisheries, National Marine Fisheries Service.

[FR Doc. 01-15895 Filed 6-22-01; 8:45 am]

BILLING CODE 3510-22-S